DEPARTMENT OF COMMERCE

Bureau of Industry and Security

15 CFR Parts 740, 742, 744, and 748

Meetings in Boston, Chicago, Houston and La Jolla With Interested Public on the Proposed Rule: Revisions and Clarification of Export and Reexport Controls for the People's Republic of China (PRC); New Authorization Validated End-User

ACTION: Notice of meetings.

SUMMARY: The Bureau of Industry and Security (BIS) will hold meetings on August 15, 17, 21 and 22, 2006 for those companies, organizations, and individuals that have an interest in understanding the United States' revised policy for exports and reexports of dual-use items to the People's Republic of China (PRC) as presented in the proposed rule published in the Federal Register on July 6, 2006. U.S. Government officials will explain the amendments proposed in the rule and answer questions from the public.

DATES: The meeting dates are:

1. August 15, 2006, 12:00 noon, Boston, Massachusetts.

2. August 17, 2006, 10:30 a.m., Chicago, Illinois.

3. August 21, 2006, 9:00 a.m., Houston, Texas.

4. August 22, 2006, 8:30 a.m., La Jolla, California.

ADDRESSES: The meeting locations are:

1. Boston—Doubletree Guest Suites Boston/Waltham, 550 Winter Street, Waltham, Massachusetts 02451.

2. Chicago—Four Points Sheraton/Chicago O'Hare, 10249 W. Irving Park Road, Schiller Park, Illinois 60176.

3. Houston—University of Houston, Small Business Development Center, Suite 200, 2302 Fannin Street, Houston, Texas 77002.

4. La Jolla—The University of California, San Diego Campus, Institute of the Americas, Copley International Conference Center, Hojel Hall of the Americas Auditorium, 10111 North Torrey Pines Road, La Jolla, California 92037.

FOR FURTHER INFORMATION CONTACT: For further information please contact the Outreach and Educational Services Division at telephone number (202) 482-4811, the Western Region Office at telephone number (949) 660-0144 ext. 0, or Kathleen Barfield at (202) 482-5491.

SUPPLEMENTARY INFORMATION: Status: These meetings will be open to the public.

Background

On July 6, 2006, the Bureau of Industry and Security (BIS) published a rule in the Federal Register that proposed amendments to the Export Administration Regulations (EAR) that would revise and clarify the United States' policy for exports and reexports of dual-use items to the People's Republic of China (PRC). Specifically, the proposed rule states that it is the policy of the United States Government to prevent exports that would make a material contribution to the military capability of the PRC, while facilitating U.S. exports to legitimate civil end-users in the PRC. Consistent with this policy, BIS proposes to amend the EAR by revising and clarifying United States licensing requirements and licensing policy on exports and reexports of goods and technology to the PRC.

The proposed amendments include a revision to the licensing review policy for items controlled on the Commerce Control List (CCL) for reasons of national security, including a new control based on knowledge of a military end-use on exports to the PRC of certain CCL items that otherwise do not require a license to the PRC. The items subject to this license requirement will be set forth in a list. This rule further proposes to revise the licensing review policy for items controlled for reasons of chemical and biological proliferation, nuclear nonproliferation, and missile technology for export to the PRC, requiring that applications involving such items be reviewed in conjunction with the revised national security licensing policy.

This rule proposes the creation of a new authorization for validated end-users in certain destinations, including the PRC, to whom certain, specified items may be exported or reexported. Such validated end-users would be placed on a list in the EAR after review and approval by the United States Government.

Finally, this rule proposes to require exporters to obtain End-User Certificates, issued by the PRC Ministry of Commerce, for all items that both require a license to the PRC for any reason and exceed a total value of $5,000. The current PRC End-Use Certificate applies only to items controlled for national security reasons. This rule also proposes to eliminate the current requirement that exporters submit PRC End-User Certificates to BIS with their license applications but provides that they must retain them for five years.

Dated: August 3, 2006.
Matthew S. Borman,
Deputy Assistant Secretary for Export Administration, Bureau of Industry and Security.

[FR Doc. E6-12864 Filed 8-7-06; 8:45 am]

BILLING CODE 3510-33-P